POSTAL RATE COMMISSION

Briefing on New Cost Model

AGENCY: Postal Rate Commission.

ACTION: Notice of public briefing.

SUMMARY: The Postal Rate Commission's advisory staff will present a briefing and demonstration of its new Windows-based CRA/Cost Rollforward model on Thursday, February 26, 2004 at 10 a.m. in the Commission's hearing room. The briefing will address the history of the Commission's model, reasons why the new version was developed, and components of the new model. A question-and-answer session will follow. The meeting is open to the public.

DATES: Thursday, February 26, 2004.

ADDRESSES: Postal Rate Commission (hearing room), 1333 H Street NW., Washington, DC 20268-0001, Suite 300.

FOR FURTHER INFORMATION CONTACT: Stephen L. Sharfman, General Counsel, 202-789-6818.

SUPPLEMENTARY INFORMATION: The CRA/Cost Rollforward model is the primary tool used to disaggregate the total costs of the U.S. Postal Service. It implements the attributable cost theory the Postal Service and the Commission use to allocate costs to the classes and subclasses of mail. It also prepares and prints reports used in Commission decisions and in Postal Service workpapers and exhibits to testimony.

The Commission has developed a new Windows-based version of this model. The new version is intended to replace the DOS-based version the Commission has used in every rate filing since Docket No. R84-1.

The new version uses Microsoft Excel spreadsheet software. It is intended to be closer in structure and format to the Postal Service's current CRA/Cost Rollforward model than the version the Commission has been using. It is also intended to be easier to operate and more compatible with the software used to develop much of the primary cost input into model.

The Commission's advisory staff and the contractor responsible for programming the new model will present a public briefing on the new model on February 26, 2004 at 10 a.m. in the Postal Rate Commission's hearing room. The briefing will describe the history of the Commission's CRA/Cost Rollforward model, identify reasons why the new version was developed, and describe the new model's components. The demonstration will use cost data from Docket No. R2001-1, which is the most recently completed omnibus rate filing. A question-and-answer session will follow with members of the Commission's staff responsible for the development and future operation of the model. All interested parties are invited to attend.

Steven W. Williams,
Secretary.

[FR Doc. 04-3305 Filed 2-13-04; 8:45 am]

BILLING CODE 7710-FW-P